DEPARTMENT OF ENERGY

Federal Energy Regulatory Commission

[Docket No. EG02-86-000, et al.]

LG&E Trust No. 2001-A, et al.; Electric Rate and Corporate Regulation Filings

February 14, 2002.

Take notice that the following filings have been made with the Commission. Any comments should be submitted in accordance with Standard Paragraph E at the end of this notice.

1. LG&E Trust No. 2001-A

[Docket No. EG02-86-000]

Take notice that on February 5, 2002, LG&E Trust No. 2001-A (Applicant) filed with the Federal Energy Regulatory Commission (Commission) an application for determination of exempt wholesale generator status pursuant to Part 365 of the Commission's regulations.

Pursuant to a synthetic lease arrangement, Applicant states that it holds legal title to two 152 MW (summer rating) combustion turbine electric generating units in Trimble County, Kentucky. LG&E Capital Trimble County LLC is the beneficial owner of (and will operate) the units upon their completion, which is expected in March 2002. All capacity and energy from the plant will be sold exclusively at wholesale.

Comment Date: March 7, 2002.

2. Covanta Energy India (Samalpatti) Limited

[Docket No. EG02-87-000]

Take notice that on February 5, 2002, Covanta Energy India (Samalpatti) Limited (Covanta Samalpatti) filed with the Federal Energy Regulatory Commission (Commission), an application for determination of exempt wholesale generator status pursuant to Part 365 of the Commission's regulations.

Covanta Samalpatti states that it indirectly owns an interest in a 106 MW heavy oil driven facility (Facility) in the State of Tamil Nadu, India. The energy produced by the Facility is sold at wholesale under a long-term power purchase agreement to the Tamil Nadu Electricity Board, a state-owned entity, whose performance under that agreement is guaranteed by the Government of the State of Tamil Nadu (a political subdivision of the country of India). Covanta Samalpatti does not anticipate that retail sales will be made from the Facility.

Comment Date: March 7, 2002.

3. Covanta Energy India (Madurai) Limited

[Docket No. EG02-88-000]

Take notice that on February 5, 2002, Covanta Energy India (Madurai) Limited (Covanta Madurai) filed with the Federal Energy Regulatory Commission (Commission) an application for determination of exempt wholesale generator status pursuant to Part 365 of the Commission's regulations.

Covanta Madurai states that it indirectly owns an interest in a 105 MW heavy oil driven facility (Facility) located in the State of Tamil Nadu, India. The energy produced by the Facility is sold at wholesale under a long-term power purchase agreement to the Tamil Nadu Electricity Board, a state-owned entity, whose performance under that agreement is guaranteed by the Government of the State of Tamil Nadu (a political subdivision of the country of India). Covanta Madurai does not anticipate that retail sales will be made from the Facility.

Comment Date: March 7, 2002.

4. West Generating Company, LLC

[Docket No. EG02-89-000]

Take notice that on February 8, 2002, West Generating Company, LLC, 410 South Wilmington Street, Raleigh, NC 27602, filed with the Federal Energy Regulatory Commission an application for determination of exempt wholesale generator status pursuant to part 365 of the Commission's regulations. The applicant is a limited liability company that will engage directly or indirectly and exclusively in the business of owning and/or operating eligible facilities in the United States and selling electric energy at wholesale. The applicant proposes to own and operate a gas-fired combustion turbine to be located in the Southeastern United States. The applicant seeks a determination of its exempt wholesale generator status. All electric energy sold by the applicant will be sold exclusively at wholesale.

Comment Date: March 7, 2002.

4a. Tenaska Virginia Partners, L.P.

[Docket No. EG02-90-000]

Take notice that on February 12, 2002, Tenaska Virginia Partners, L.P., 1044 North 115th Street, Suite 400, Omaha, Nebraska 68154 (Tenaska Virginia), filed with the Federal Energy Regulatory Commission (Commission) an application for determination of exempt wholesale generator status pursuant to part 365 of the Commission's regulations.

Tenaska Virginia, a Delaware limited partnership, states that it will construct, own, and operate a natural gas fired combined-cycle fuel conversion facility (the Facility) to be constructed and located near Palmyra, Virginia, in Fluvanna County. The Facility will consist of three “F” Class combustion turbine-generators and one steam turbine-generator, and will use natural gas as the primary fuel and may use fuel oil as backup fuel for the combustion turbines. The Facility will also include natural gas receipt facilities and a switchyard, and may include fuel oil storage facilities and fuel oil unloading facilities. The nominal net electric output of the facility will be 885 MW when operating at summer conditions. The Facility will include related transmission interconnection components necessary to interconnect the Facility with Virginia Electric and Power Company. The Facility will be used exclusively for the generation of electric energy to be delivered to an unaffiliated third-party customer.

Comment Date: March 7, 2002.

5. New York Independent System Operator, Inc.

[Docket No. ER01-2536-003]

Take notice that on February 11, 2002, New York Independent System Operator, Inc. (NYISO) submitted rates for mitigated in-city generators for the 24-month period of September 1999 to August 2001 and for the 36-month period of September 1998 to August 2001. Our January 18, 2002 letter explained that the rates provided reflected the fact that the NYISO did not have data available for all mitigated in-city generators for the period September 1999 to December 1999.

Comment Date: March 4, 2002.

6. Bluegrass Generation Company, L.L.C., Cabrillo Power I LLC, Cabrillo Power II LLC, Calcasieu Power, LLC, Dynegy Danskammer, L.L.C., Dynegy Midwest Generation, Inc., Dynegy Power Marketing, Inc., Dynegy Power Services, Inc., Dynegy Roseton, L.L.C., El Segundo Power, L.L.C., Foothills Generating, L.L.C., Heard County Power, L.L.C., Illinova Energy Partners, Inc., Long Beach Generation LLC, Nicor Energy, L.L.C., Renaissance Power, L.L.C., Riverside Generating Company, L.L.C., Rockingham Power, L.L.C., Rocky Road Power, L.L.C., Rolling Hills Generating, L.L.C.

[Docket Nos. ER02-506-002, ER99-1115-005, ER99-1116-005, ER00-1049-003, ER01-140-002, ER00-1895-002, ER99-4160-003, ER94-1612-026, ER01-141-002, ER98-1127-005, ER02-554-001, ER01-943-002, ER94-1475-021, ER98-1796-004, ER01-1169-002, ER01-3109-002, ER01-1044-002, ER99-1567-002, ER99-2157-002, ER02-553-001]

Take notice that on February 8, 2002, the subsidiaries of Dynegy Inc. that have been granted blanket market-based rate authority to sell energy and capacity pursuant to Section 205 of the Federal Power Act submitted an updated market power study.

Comment Date: March 1, 2002.

7. Virginia Electric and Power Company

[Docket No. ER02-511-001]

Take notice that on February 11, 2002, Virginia Electric and Power Company, doing business as Dominion Virginia Power, tendered for filing with the Federal Energy Regulatory Commission (Commission) an executed Generator Interconnection and Operating Agreement (Interconnection Agreement) with Southeastern Public Service Authority of Virginia (SPSA) that complies with the Commission's January 30, 2002 Order in this docket.

Dominion Virginia Power respectfully requests that the Commission accept this filing to make the Interconnection Agreement effective as of December 11, 2001, the same date the Commission originally made the Interconnection Agreement effective in its January 30 Order. Copies of the filing were served upon SPSA and the Virginia State Corporation Commission.

Comment Date: March 4, 2002.

8. Entergy Services, Inc.

[Docket No. ER02-324-002]

Take notice that on February 11, 2002, Entergy Services, Inc., on behalf of Entergy Gulf States, Inc., tendered for filing with the Federal Energy Regulatory Commission (Commission), a compliance Interconnection and Operating Agreement with Amelia Energy Center, LP, in response to the Commission's January 11, 2002, order in Entergy Gulf States, Inc., 98 FERC ¶ 61,014 (2002).

Comment Date: March 4, 2002.

9. The Montana Power Company

[Docket No. ER02-321-000]

Take notice that on February 11, 2002, The Montana Power Company (Montana) tendered for filing with the Federal Energy Regulatory Commission in compliance with the letter order dated January 11, 2002 in Docket No. ER02-321-000, Montana Power Company Rate Schedule FERC No. 175 paginated and designated as required by Order No. 614.

A copy of the filing was served upon Bonneville Power Administration.

Comment Date: March 4, 2002.

10. Reliant Energy Desert Basin, LLC

[Docket No. ER02-310-001]

Take notice that on February 11, 2002, pursuant to the letter order issued in the captioned docket on January 11, 2002, Reliant Energy Desert Basin, LLC (RE Desert Basin) submitted to the Federal Energy Regulatory Commission a revised filing of an umbrella service agreement under RE Desert Basin's FERC Electric Tariff, Original Volume No. 1, with the service agreement properly designated as required by Order No. 614.

Comment Date: March 4, 2002.

11. PJM Interconnection, L.L.C.

[Docket No. ER01-1115-002]

Take notice that on February 8, 2002, PJM Interconnection, L.L.C. (PJM) submitted a withdrawal of its Notice of Cancellation and Amended Notice of Cancellation filed in this docket on January 30, 2001 and March 5, 2001, respectively, to cancel the Interconnection Agreement between the PJM Group and the NYPP Group, designated as PJM Group Rate Schedule FERC No. 5 and NYPP Group Rate Schedule FERC No. 3 (Interconnection Agreement). PJM is not withdrawing the Unscheduled Transmission Services Agreement between PJM and the New York Independent System Operator, Inc. filed in this docket and reiterates its request for a January 1, 2001 effective date.

Copies of the filing have been served on all parties on the official service list in Docket Number ER01-1115-000.

Comment Date: March 1, 2002.

12. RockGen Energy, LLC

[Docket No. ER99-970-002]

Take notice that on February 11, 2002, RockGen Energy, LLC submitted for filing its triennial market analysis update in compliance with the Commission order issued in this docket on February 11, 1999.

Comment Date: March 4, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-4347 Filed 2-22-02; 8:45 am]

BILLING CODE 6717-01-P